DEPARTMENT OF ENERGY

Federal Energy Regulatory Commission

[Docket No. EL02-125-004, et al.]

New York Independent System Operator, Inc., et al.; Electric Rate and Corporate Filings

March 23, 2005.

The following filings have been made with the Commission. The filings are listed in ascending order within each docket classification.

1. New York Independent System Operator Inc.

[Docket No. EL02-125-004]

Take notice that on March 14, 2005, the New York Independent System Operator Inc. tendered for filing its final status report on training seminars as provided in the settlement approved by the Commission's order issued August 20, 2004 in Docket Nos. EL02-125-000 and 001, 108 FERC ¶ 61,201 (2004).

Comment Date: 5 p.m. eastern time on April 4, 2005.

2. California Independent System Operator Corporation

[Docket No. ER02-1656-025]

Take notice that on March 15, 2005, the California Independent System Operator Corporation (CAISO) submitted its Comprehensive Design Proposal for Inter-Scheduling Coordinator Trades under the CAISO's Market Redesign and Technology Upgrade.

CAISO states that the filing has been served on the Public Utilities Commission of the State of California, the California Energy Commission, the California Electricity Oversight Board, all parties with Scheduling Coordinator Agreements under the CAISO tariff, and all parties on the official services lists for Docket Nos. ER02-1656-000 and EL04-108-000. In addition, the CAISO states that the filing has been posted on its Home Page.

Comment Date: 5 p.m. eastern time on April 12, 2005.

3. PJM Interconnection, L.L.C.

[Docket Nos. ER04-742-004, EL04-105-002]

Take notice that on March 17, 2005, PJM Interconnection, L.L.C. (PJM) submitted revisions to the PJM Open Access Transmission Tariff (PJM Tariff) and the Amended and Restated Operating Agreement of PJM Interconnection, L.L.C. (Operating Agreement) to incorporate added language specified by the Commission's March 7, 2005 Order in this proceeding, 110 FERC ¶ 61,254 (March 7 Order).

PJM states that copies of this filing were served upon all persons on the service list in these dockets, as well as all PJM members, and each state electric utility regulatory commission in the PJM region.

Comment Date: 5 p.m. eastern time on April 7, 2005.

4. California Independent System Operator Corporation

[Docket No. ER05-416-002]

Take notice that on March 17, 2005, the California Independent System Operator Corporation (CAISO) submitted a second errata to its December 30, 2004 filing regarding CAISO's revised transmission access charge rates effective January 1, 2005 to implement the revised Transmission Revenue Balancing Accounts of the current Participating Transmission Owners.

The ISO states that this filing has been served upon the Public Utilities Commission of the State of California, the California Energy Commission, the California Electricity Oversight Board, the Participating Transmission Owners, and upon all parties with effective Scheduling Coordinator Service Agreements under the ISO Tariff. The ISO further explains that it is posting the filing on the ISO Home Page.

Comment Date: 5 p.m. eastern time on April 4, 2005.

5. American Electric Power Service Corporation

[Docket No. ER05-681-000]

Take notice that on March 4, 2005, American Electric Power Service Corporation, on behalf of the American Electric Power operating companies (AEP), submitted an executed Second Power Supply Agreement between AEP and Northeast Texas Electric Cooperative, Inc. and East Texas Electric Cooperative, Inc.

Comment Date: 5 p.m. eastern time on April 6, 2005.

6. Southern California Edison Company

[Docket No. ER05-712-000]

Take notice that on March 17, 2005, Southern California Edison Company (SCE) submitted for filing an amended Interconnection Facilities Agreement, Service Agreement No. 121 and an amended Service Agreement for Wholesale Distribution Service, Service Agreement No. 22 under SCE's Wholesale Distribution Access Tariff, FERC Electric Tariff, First Revised Volume No. 5, between SCE and BP West Coast Products LLC (BP) to reflect a five year extension of service; the name change from Atlantic Richfield Company to BP; and provide for BP's execution of the Western Electricity Coordinating Council's Reliability Management System Agreement.

SCE states that copies of the filing were served upon the Public Utilities Commission of the State of California and BP.

Comment Date: 5 p.m. eastern time on April 7, 2005.

7. KRK Energy

[Docket No. ER05-713-000]

Take notice that on March 17, 2005, KRK Energy (KRK) petitioned the Commission for acceptance of KRK Rate Schedule FERC No. 1; the granting of certain blanket approvals, including the authority to sell electricity at market-based rates; and the waiver of certain Commission regulations.

KRK states that it intends to engage in wholesale electric power and energy purchases and sales as a marketer. KRK further states it is not in the business of generating or transmitting electric power.

Comment Date: 5 p.m. eastern time on April 7, 2005.

8. Hawkeye Power Partners, LLC

[Docket No. ER98-2076-007]

Take notice that on March 17, 2005, Hawkeye Power Partners, LLC (Hawkeye) submitted a compliance filing pursuant to Investigation of Terms and Conditions of Public Utility Market-Based Rate Authorizations, 105 FERC ¶ 61,277 (2003), requiring that sellers with market-based rates that have not previously amended their tariffs to include the market behavior rules do so upon the filing of a three-year market-based rate update. In addition, Hawkeye is making a filing in compliance with the Commission Order No. 652, Reporting Requirement for Changes in Status for Public Utilities With Market-Based Rate Authority issued February 10, 2005. 110 FERC ¶ 61,097 (2005).

Hawkeye states that copies of the filing were served on parties on the official service list in the above-captioned proceeding and the Florida Public Service Commission.

Comment Date: 5 p.m. eastern time on April 7, 2005.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Linda Mitry,
Deputy Secretary.

[FR Doc. E5-1468 Filed 3-31-05; 8:45 am]

BILLING CODE 6717-01-P